FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
14107N | Caribbean Shipping Services Inc., 1505 Dennis Street, Jacksonville, FL 32204 | June 20, 2003.
2492NF | Deka Associates, Inc., One Clarence Place, Unit #8, San Francisco, CA 94107 | February 14, 2003.
10443N | Immortal Service Inc., 440 S. Hindry Avenue, Suite F, Inglewood, CA 90301 | June 6, 2002.
2957F | Michael J. Loprimo, 1078 Route 112, #164, Port Jefferson, NJ 11776 | June 30, 2003.

Ronald D. Murphy,
Deputy Director, Bureau of Consumer Complaints and Licensing.

[FR Doc. 03-20066 Filed 8-6-03; 8:45 am]

BILLING CODE 6730-01-P